DEPARTMENT OF THE INTERIOR

Fish and Wildlife Service

Notice of Availability of a Final Implementation Schedule for the South Florida Multi-Species Recovery Plan

AGENCY: Fish and Wildlife Service, Interior.

ACTION: Notice of document availability.

SUMMARY: The Fish and Wildlife Service (“we,” “our,” or “Service”) announces the availability of the Implementation schedule for the South Florida Multi-Species Recovery Plan (MSRP). The MSRP, as approved in 1999, included a discussion of the need for a coordinated effort to develop an implementation schedule. This implementation schedule was prepared with the assistance of the South Florida Multi-species/Ecosystem Recovery Implementation Team (MERIT). The implementation schedule prioritizes the recovery tasks as described in the MSRP on a community level, and identifies the associated participating parties, time frames, and costs necessary to accomplish those tasks.

ADDRESSES: Copies of the final implementation schedule can be downloaded from http://verobeach.fws.gov or can be obtained by contacting the Fish and Wildlife Service, South Florida Ecological Services Office, 1339 20th Street, Vero Beach, Florida 32960. We encourage requests for the CD-ROM version of the implementation schedule, as the hard (paper) copy encompasses more than 140 pages.

FOR FURTHER INFORMATION CONTACT: Cindy Schulz at the South Florida Ecological Services Office, (772) 562-3909, ext. 305.

SUPPLEMENTARY INFORMATION: On April 2, 2004, we published a notice announcing the availability of this technical/agency draft implementation schedule in the Federal Register, and opened a 60-day public comment period. We particularly sought comments concerning: (1) Recommended changes to the priority number for recovery tasks; (2) recommendations for additions or deletions to the participants identified for each recovery task; and (3) additional information to assist us with determining costs for accomplishing recovery tasks. Four parties provided comments on ten species. Among those were comments on recovery task priority number, participants, and cost. Comments were also received on the recovery tasks themselves. We have considered and addressed comments where appropriate in this final implementation schedule. Those comments, as well as updates by Service staff, led to this final version of the implementation schedule that differs from the technical/agency draft. The recovery tasks listed in the implementation schedule were taken directly from the MSRP. Any changes needed to the tasks themselves will be addressed in a future revision of the MSRP rather than in the implementation schedule. These changes, if any, would be subject to public comment only during such future revision.

Background

Restoring listed animals and plants to the point where they are again secure, self-sustaining components of their ecosystems is a primary goal of the Service's threatened and endangered species program. To help guide the recovery effort, we prepare recovery plans for listed species native to the United States, pursuant to section 4(f) of the Endangered Species Act of 1973 (Act), as amended (16 U.S.C. et seq.), which requires the development of recovery plans for listed species unless such a plan would not promote the conservation of a particular species. Recovery plans describe actions that may be necessary for conservation of these species, establish criteria for reclassification from endangered to threatened status or removal from the list, and estimate the time and cost for implementing the needed recovery measures.

Section 4(f) of the Act also requires that a public notice and an opportunity for public review and comment be provided during recovery plan development. Accordingly, the MSRP was made available for public review and comment before its approval in May 1999. The MSRP identifies the recovery needs of the 68 threatened and endangered species and 23 natural communities in the south Florida ecosystem, which encompasses 67,346 square kilometers (26,002 square miles), covering the 19 southernmost counties in Florida.

The process to develop this final implementation schedule involved the collaborative effort of a team appointed by the Service to focus specifically on recovery implementation efforts in South Florida. The team, known as MERIT, is comprised of 36 members representing Federal, State, and local government agencies; Tribal governments; academia; industry, and the private sector. MERIT members assisted in assigning priorities to recovery tasks, and estimating the duration and possible cost to complete each task. They also identified organizations or agencies that would likely be involved in accomplishing each task.

The implementation schedule for the MSRP contains recovery tasks for those species that occur only in south Florida, and for which the South Florida Ecological Services Office has recovery lead. Other Service offices have recovery responsibility for those species that occur in south Florida but also occur elsewhere. Implementation schedules for those species can be found in the approved individual recovery plans for those species. Recovery tasks are provided in this implementation schedule for the following species:

Status/species | Scientific name
Mammals:
E Key deer | Odocoileus virginianus clavium.
E Key Largo cotton mouse | Peromyscus gossypinus allapaticola.
E Key Largo woodrat | Neotoma floridana smalli.
E Rice rat (= silver rice rat) | Oryzomys palustris natator (= O. argentatus.)
E Lower Keys rabbit | Sylvilagus palustris hefneri.
Birds:
T Audubon's crested caracara | Polyborus plancus audubonii.
E Cape Sable seaside sparrow | Ammodramus (= Ammospiza) maritimus mirabilis.
E Everglade snail kite | Rostrhamus sociabilis plumbeus.
E Florida grasshopper sparrow | Ammodramus savannarum floridanus.
Reptiles:
PT American crocodile | Crocodylus acutus.
T Bluetail (blue-tailed) mole skink | Eumeces egregius lividus.
T Sand skink | Neoseps reynoldsi.
Invertebrates:
E Schaus swallowtail butterfly | Heraclides (= Papilio) aristodemus ponceanus.
T Stock Island tree snail | Orthalicus reses (not incl. nesodryas.)
Plants:
E Avon Park harebells | Crotalaria avonensis.
E Beach jacquemontia | Jacquemontia reclinata.
E Beautiful pawpaw | Deeringothamnus pulchellus.
E Carter's mustard | Warea carteri.
E Crenulate lead-plant | Amorpha crenulata.
E Deltoid spurge | Chamaesyce (= Euphorbia) deltoidea spp. deltoidea.
E Florida perforate cladonia | Cladonia perforata.
E Florida ziziphus | Ziziphus celata.
E Four-petal pawpaw | Asimina tetramera.
E Fragrant prickly-apple | Cereus eriophorus var. fragrans.
T Garber's spurge | Chamaesyce (= Euphorbia) garberi.
E Garrett's mint | Dicerandra christmanii.
E Highlands scrub hypericum | Hypericum cumulicola.
E Key tree-cactus | Pilosocereus (= Cereus) robinii.
E Lakela's mint | Dicerandra immaculata.
E Lewton's polygala | Polygala lewtonii.
E Okeechobee gourd | Cucurbita okeechobeensis ssp. okeechobeensis.
T Papery whitlow-wort | Paronychia chartacea (= Nyachia pulvinata.)
T Pigeon wings | Clitoria fragrans.
E Pygmy fringe-tree | Chionanthus pygmaeus.
E Sandlace | Polygonella myriophylla.
E Scrub blazing star | Liatris ohlingerae.
E Scrub mint | Dicerandra frutescens.
E Short-leaved rosemary | Conradina brevifolia.
E Small's milkpea | Galactia smallii.
E Snakeroot | Eryngium cuneifolium.
E Tiny polygala | Polygala smallii.
E Wireweed | Polygonella basiramia (= ciliata var. b.)
E = Endangered, T = Threatened, PT = Proposed for Reclassification to Threatened Status.

To request copies of the final implementation schedule, please see the ADDRESSES section above. Paper copies of both the MSRP and the final implementation schedule are available for public inspection at the South Florida Ecological Services Office.

Authority

The authority for this action is section 4(f) of the Endangered Species Act, 16 U.S.C. 1533(f).

Dated: December 27, 2006.
Cynthia K. Dohner,
Acting Regional Director.

[FR Doc. E7-5471 Filed 3-23-07; 8:45 am]

BILLING CODE 4310-55-P